DEPARTMENT OF STATE

[Public Notice: 11074]

Commission on Unalienable Rights: Notice of Cancellation of Open Meeting

Due to concerns surrounding the spread of coronavirus, the Commission on Unalienable Rights (“Commission”) is cancelling its open meeting previously scheduled on Thursday, March 26. If another meeting is scheduled, the Department of State will issue a Federal Register Notice with details.

For additional information, contact Duncan Walker, Policy Planning Staff, at (202) 647-2236, or walkerdh3@state.gov.

Duncan H. Walker,
Designated Federal Officer, U.S. Department of State.

[FR Doc. 2020-05471 Filed 3-16-20; 8:45 am]

BILLING CODE 4710-10-P